NUCLEAR REGULATORY COMMISSION

[Docket Nos. 50-498 and 50-499]

STP Nuclear Operating Company; Notice of Withdrawal of Application for Amendment to Facility Operating License

The U.S. Nuclear Regulatory Commission (the Commission) has granted the request of STP Nuclear Operating Company (the licensee) to withdraw its May 23, 2002, application for proposed amendments to Facility Operating License No. NPF-76 and Facility Operating License No. NPF-80 for the South Texas Project (STP), Units 1 and 2, respectively. STP, Units 1 and 2 are located in Matagorda County, Texas.

The proposed amendments would have revised the facility Technical Specifications 3.7.1.5 and 3.7.1.7 to extend the allowable outage times (AOTs) for main steam line isolation valves, extend the AOT for the main feedwater isolation valves, and allow more than one main feedwater isolation valves to be inoperable.

The Commission had previously issued a Notice of Consideration of Issuance of Amendment published in the Federal Register on June 25, 2002 (67 FR 42831). However, by letter dated June 17, 2003, the licensee withdrew the proposed change.

For further details with respect to this action, see the application for amendment dated May 23, 2002, and the licensee's letter dated June 17, 2003, which withdrew the application for license amendments. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209 or 301-415-4737 or by e-mail to pdr@nrc.gov.

Dated at Rockville, Maryland, this 24th day of June 2003.
For the Nuclear Regulatory Commission.
Mohan C. Thadani,
Senior Project Manager, Section 1, Project Directorate IV, Division of Licensing Project Management, Office of Nuclear Reactor Regulation.

[FR Doc. 03-16536 Filed 6-30-03; 8:45 am]

BILLING CODE 7590-01-P